INTERNATIONAL TRADE COMMISSION

[Investigation No. 337-TA-594]

In the Matter of Certain Lighting Products, Components Thereof, and Products Containing the Same; Notice of a Commission Determination Not To Review an Initial Determination Terminating the Investigation on the Basis of a Settlement Agreement

AGENCY: U.S. International Trade Commission.

ACTION: Notice.

SUMMARY: Notice is hereby given that the U.S. International Trade Commission has determined not to review an initial determination (“ID”) of the presiding administrative law judge (“ALJ”) in the above-captioned investigation terminating the investigation in its entirety on the basis of a settlement agreement.

FOR FURTHER INFORMATION CONTACT: Michael K. Haldenstein, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 27, 2007, based on a complaint filed by Cooper Lighting, Inc. of Peachtree City, Georgia. 72 FR 8790 (February 27, 2007). The complaint, as supplemented, alleged violations of section 337 of the Tariff Act of 1930, 19 U.S.C. 1337 (“section 337”) in the importation into the United States, the sale for importation, and the sale within the United States after importation of certain lighting products, components thereof, and products containing the same by reason of infringement of claims 23, 26, and 27 of U.S. Patent No. 6,082,878 and claims 1 and 7 of U.S. Patent No. 5,662,413. The complaint further alleged that an industry in the United States exists as required by subsection (a)(2) of section 337. The complaint requested that the Commission issue an exclusion order and cease and desist orders. The Commission named two companies as respondents, Cordelia Lighting, Inc. and Jimway, Inc. Both companies are located in Rancho Dominguez, California.

On July 12, 2007, Cooper and the two respondents filed a joint motion to terminate the investigation based upon a settlement agreement. The Commission investigative attorney filed a response in support of the motion and no party opposed the motion. On July 25, 2007, the ALJ issued the subject ID (Order No. 6) that grants the parties' joint motion and terminates the investigation on the basis of a settlement agreement. No petitions for review were filed and the Commission has determined not to review the ID. No respondents remain in the investigation and the investigation is therefore terminated in its entirety.

This action is taken under the authority of section 337 of the Tariff Act of 1930, as amended, 19 U.S.C. 1337, and Commission rules 210.21, 210.42, 19 CFR 210.21, 210.42.

By order of the Commission.
Issued: August 17, 2007.
Marilyn R. Abbott,
Secretary to the Commission.

[FR Doc. E7-16546 Filed 8-21-07; 8:45 am]

BILLING CODE 7020-02-P